DEPARTMENT OF JUSTICE

National Institute of Justice

[OJP (NIJ) Docket No. 1819]

Publication of NIJ Standard 0101.07, Ballistic Resistance of Body Armor, and NIJ Standard 0123.00, Specification for NIJ Ballistic Protection Levels and Associated Test Threats, and Information About the NIJ Compliance Testing Program

AGENCY: National Institute of Justice, Office of Justice Programs, U.S. Department of Justice.

ACTION: Notice.

SUMMARY: The National Institute of Justice (NIJ) announces publication of NIJ Standard 0101.07, Ballistic Resistance of Body Armor and NIJ Standard 0123.00, Specification for NIJ Ballistic Protection Levels and Associated Test Threats. The NIJ Compliance Testing Program (CTP) will be transitioning program operations to focus on implementing NIJ Standard 0101.07 as described below.

FOR FURTHER INFORMATION CONTACT: Mark Greene, Office Director, Office of Technology and Standards, National Institute of Justice, 810 7th Street NW, Washington, DC 20531, by telephone at (202) 598-9481 [Note: this is not a toll-free telephone number], or by email at mark.greene2@usdoj.gov.

SUPPLEMENTARY INFORMATION: The National Institute of Justice (NIJ) announces publication of NIJ Standard 0101.07, Ballistic Resistance of Body Armor. The document can be found here: https://www.ojp.gov/pdffiles1/nij/307346.pdf. It specifies minimum performance requirements and test methods for the ballistic resistance of body armor used by U.S. law enforcement that is intended to protect the torso against handgun and rifle ammunition. This revised standard supersedes NIJ Standard 0101.06, Ballistic Resistance of Body Armor, effective immediately. The primary purpose of this standard will be for use by the NIJ Compliance Testing Program (CTP) for testing, evaluation, and certification of ballistic-resistant body armor. It will also be used by NIJ-approved ballistic testing laboratories and body armor suppliers participating in the NIJ CTP. More information on this standard can be found here: https://nij.ojp.gov/standard-0101-07.

NIJ also announces publication of NIJ Standard 0123.00, Specification for NIJ Ballistic Protection Levels and Associated Test Threats. The document can be found here: https://www.ojp.gov/pdffiles1/nij/307347.pdf. It specifies the NIJ ballistic protection levels and associated test threats identified by U.S. law enforcement as representative of current prevalent threats in the United States. This standard should be used in conjunction with other standards to test and evaluate specific ballistic-resistant equipment, such as ballistic-resistant body armor, against contemporary ballistic threats that pose a life-threatening safety hazard to U.S. law enforcement officers. The NIJ CTP will use this standard for testing, evaluation, and certification of ballistic-resistant body armor using NIJ Standard 0101.07 and other types of ballistic-resistant equipment that may be added to the scope of the NIJ CTP's conformity assessment activities in the future. More information on this standard can be found here: https://nij.ojp.gov/standard-0123-00.

The NIJ CTP is a body armor certification program that provides personnel working in U.S. law enforcement and correctional agencies confidence that the body armor they purchase and use performs according to minimum performance requirements to protect against common handgun and rifle threats as well as stab threats. The NIJ CTP produces a Compliant Products List (CPL) of armor models that meet program requirements, which includes compliance with NIJ Standard 0101.06. Currently, there are over 400 models of ballistic-resistant body armor listed on NIJ's CPL for armor compliant with NIJ Standard 0101.06 (“06” CPL). The CPL for ballistic-resistant body armor can be found here: https://nij.ojp.gov/topics/equipment-and-technology/body-armor/ballistic-resistant-armor.

With the publication of NIJ Standard 0101.07, the NIJ CTP will begin an orderly transition from testing new body armor models for compliance with NIJ Standard 0101.06 to testing for compliance with NIJ Standard 0101.07. Given the large number of fielded ballistic-resistant armor models currently worn by law enforcement officers, the NIJ CTP anticipates maintaining the “06” CPL through at least the end of calendar year 2027. The NIJ CTP may opt to continue support of the “06” CPL for longer should the need arise.

The NIJ CTP will stop accepting applications for new body armor models for testing for compliance with NIJ Standard 0101.06 on January 5, 2024, at 5:00 p.m. Eastern time. New body armor models submitted on or before this date that meet program requirements will be added to the “06” CPL, however, no new models of armor will be added to the “06” CPL after the last models submitted are adjudicated through the NIJ CTP process. Furthermore, any actively listed armor models that are removed or withdrawn from the “06” CPL will not be reinstated to active status, effective immediately. All armor models listed on the “06” CPL will be subject to Follow-up Inspection Testing (FIT) for as long as the “06” CPL is published.

The NIJ CTP will begin accepting applications for new body armor models for testing for compliance with NIJ Standard 0101.07 in 2024. Commercial entities interested in participating in the NIJ CTP must first register in the Testing Information Management System (TIMS) and complete an Applicant Agreement. TIMS can be accessed through the following web page: https://cjtec.org/compliance-testing-program/testing-information-management-system/.

The NIJ CTP will host an informational online webinar that will offer a guided tour of TIMS prior to opening the system for registration. The date and time of the webinar, as well as instructions on how to attend, will be published on the TIMS web page above. Commercial entities interested in participating in the NIJ CTP are strongly encouraged to attend the webinar. NIJ anticipates that commercial entities may begin registering in TIMS after the webinar is held. The exact date that commercial entities can register in TIMS, as well as instructions on how to use TIMS, will be displayed on the TIMS web page above.

The NIJ CTP anticipates allowing commercial entities that have registered in TIMS and completed an Applicant Agreement to submit new body armor models for testing for compliance with NIJ Standard 0101.07 in the middle of April 2024. The exact date that new armor models can be submitted will be displayed on the TIMS homepage on April 1, 2024. The NIJ CTP anticipates that it will take several months for the first wave of body armor models to be certified to the new program requirements, with a new CPL for armor models compliant with NIJ Standard 0101.07 (“07” CPL) subsequently published.

Ballistics laboratories interested in participating in the NIJ CTP to test armor in accordance with NIJ Standard 0101.07 must communicate their interest by email to the contact listed above as soon as possible so that appropriate program requirements can be met in a timely manner. Information on program requirements for laboratory participation in the NIJ CTP can be found here: https://cjtec.org/compliance-testing-program/nij-approved-test-laboratories/. NIJ encourages ballistics laboratories to check the above web page regularly for updates.

NIJ plans to hold an in-person workshop for body armor manufacturers to discuss implementation of NIJ Standard 0101.07 and NIJ Standard 0123.00 through the NIJ CTP. Information about this workshop will be published separately in the Federal Register.

More information about standards and conformity assessment at NIJ can be found here: https://nij.ojp.gov/equipment-standards-and-conformity-assessment. More information on the NIJ CTP can be found here: https://cjtec.org/compliance-testing-program/.

NIJ publishes this notice pursuant to its authority at 34 U.S.C. 10122(c) and 6 U.S.C. 161-165.

Nancy La Vigne,
Director, National Institute of Justice.

[FR Doc. 2023-26327 Filed 11-29-23; 8:45 am]

BILLING CODE 4410-18-P